ENVIRONMENTAL PROTECTION AGENCY

[EPA-R10-OW-2022-0418; FRL-9860-02-R10]

Proposed Determination To Prohibit and Restrict the Use of Certain Waters Within Defined Areas as Disposal Sites; Pebble Deposit Area, Southwest Alaska; Extension of Comment Period

AGENCY: Environmental Protection Agency (EPA).

ACTION: Notice of extension of public comment period and public hearing comment period.

SUMMARY: The Environmental Protection Agency (EPA) is extending the public comment period for its 2022 Proposed Determination to Prohibit and Restrict the Use of Certain Waters Within Defined Areas as Disposal Sites; Pebble Deposit Area, Southwest Alaska issued pursuant to Section 404(c) of the Clean Water Act (CWA). Notice of availability and notice of public hearing were published in the Federal Register on May 26, 2022. The notice provided that the public comment period would remain open through July 5, 2022. The public comment period for the 2022 Proposed Determination and the post hearing comment period are hereby extended through September 6, 2022.

DATES: The comment period for the 2022 Proposed Determination published May 26, 2022 (87 FR 32021) is extended. Written comments on the 2022 Proposed Determination must be received on or before September 6, 2022.

ADDRESSES:

I. How to Obtain a Copy of the Proposed Determination: The proposed determination is available primarily via the internet on the EPA Region 10 Bristol Bay site at www.epa.gov/bristolbay.

II. How to Submit Comments to the Docket at www.regulations.gov:

Submit your comments, identified by Docket ID No. EPA-R10-OW-2022-0418, by one of the following methods:

Federal eRulemaking Portal (recommended method of comment submission): Follow the online instructions at http://www.regulations.gov for submitting comments.

Email: ow-docket@epa.gov. Include the docket number EPA-R10-OW-2022-0418 in the subject line of the message.

Mail and Hand Delivery/Courier: Send your original comments and three copies to: Water Docket, Environmental Protection Agency, Mail Code 2822T, 1200 Pennsylvania Avenue NW, Washington, DC 20460, Attention: Docket ID No. EPA-R10-OW-2022-0418.

Hand Delivery/Courier: Deliver your comments to EPA Docket Center, EPA West, Room 3334, 1301 Constitution Avenue NW, Washington, DC 20460, Attention: Docket ID No. EPA-R10-OW-2022-0418. Such deliveries are accepted only during the Docket's normal hours of operation, 8:30 a.m. to 4:30 p.m. ET, Monday through Friday (excluding legal holidays). Special arrangements should be made for deliveries of boxed information. The telephone number for the Water Docket is (202) 566-2426.

Instructions: EPA's policy is that all comments received will be included in the public docket without change and will be made available online at http://www.regulations.gov, including any personal information provided, unless the comment includes information claimed to be Confidential Business Information (CBI) or other information disclosure of which is restricted by statute. Do not submit information that you consider to be CBI or otherwise protected information through http://www.regulations.gov or email. The http://www.regulations.gov website is an “anonymous access” system, which means EPA will not know your identity or contact information unless you provide it in the body of your comment. If you send an email comment directly to EPA without going through http://www.regulations.gov, your email address will be captured automatically and included as part of the comment that is placed in the public docket and made publicly available on the internet. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: For information on the public comment period, contact the Water Docket; telephone: (202) 566-2426 or email: owdocket@epa.gov. For information concerning the proposed determination, contact Erin Seyfried; telephone (206) 553-0040 or email: r10bristolbay@epa.gov. For more information about EPA's efforts in Bristol Bay, copies of the Section 404(c) proposed determination, see http://www.epa.gov/bristolbay.

SUPPLEMENTARY INFORMATION: EPA Region 10 has received several communications regarding an extension of the comment period, including requests to extend the comment period by 60 days and 120 days. EPA Region 10 also received requests not to extend the public comment period. EPA Region 10 has considered each of these requests and finds that good cause exists pursuant to 40 CFR 231.8 to extend the public comment period through September 6, 2022 to provide sufficient time for all parties to meaningfully comment on the 2022 Proposed Determination and supporting documents.

Casey Sixkiller,
Regional Administrator, Region 10.

[FR Doc. 2022-13986 Filed 6-29-22; 8:45 am]

BILLING CODE 6560-50-P